DEPARTMENT OF VETERANS AFFAIRS

Veterans' Disability Benefits Commission; Notice of Meeting

The Department of Veterans Affairs (VA) gives notice under Public Law 92-463 (Federal Advisory Committee Act) that the Veterans' Disability Benefits Commission has scheduled a meeting for March 22-23, 2007 in the Hamilton Ballroom of the Hamilton Crowne Plaza Hotel, 14th and K Streets, NW., Washington, DC. The meeting will begin at 8:30 a.m. each day. The March 22 session will end at 5:15 p.m. and the March 23 session will end at 5 p.m. The meeting is open to the public.

The purpose of the Commission is to carry out a study of the benefits under the laws of the United States that are provided to compensate and assist veterans and their survivors for disabilities and deaths attributable to military service.

The agenda for the meeting will feature updates on the progress of the studies being conducted by the Center for Naval Analyses (CNA) and the Institute of Medicine (IOM). The Commission will receive presentations on the application of VA's disability rating schedule and several draft Issue Papers in various stages of development. There will also be a discussion of the format and outline to be used for the Commission's final report. The Commission will also receive comments from interested parties on Research Question 19, “Pending Claim Ends with Death.”

Interested persons may attend and present oral statements to the Commission on March 23. Oral presentations will be limited to five minutes or less, depending on the number of participants. Interested parties may also provide written comments for review by the Commission prior to the meeting or at any time, by e-mail to veterans@vetscommission.com or by mail to Mr. Ray Wilburn, Executive Director, Veterans' Disability Benefits Commission, 1101 Pennsylvania Avenue, NW., 5th Floor, Washington, DC 20004.

Dated: March 1, 2007.
By direction of the Secretary.
E. Philip Riggin,
Committee Management Officer.

[FR Doc. 07-1058 Filed 3-6-07; 8:45 am]

BILLING CODE 8320-01-M